DEPARTMENT OF LABOR

Employment and Training Administration

20 CFR Part 655

Wage and Hour Division

29 CFR Parts 501, 780, and 788

RIN 1205-AB55

Temporary Agricultural Employment of H-2A Aliens in the United States; Extension of Comment Period

AGENCY: Employment and Training Administration, Wage and Hour Division, Employment Standards Administration, Labor.

ACTION: Proposed rule; extension of comment period.

SUMMARY: The Employment and Training Administration and the Employment Standards Administration issued a proposed rule on September 4, 2009, to amend its regulations governing the certification of temporary employment of nonimmigrant workers in temporary or seasonal agricultural (H-2A) employment and the enforcement of the contractual obligations applicable to employers of such nonimmigrant workers. The proposed rule provided a comment period for the regulatory text through October 5, 2009. The agencies have received several requests to extend the comment period and have decided to extend the comment period for an additional 15 days, to October 20, 2009. The comment period for the Paperwork Reduction Act portion remains the same as published, i.e. November 5, 2009.

DATES: The comment period for the notice of proposed rulemaking published September 4, 2009 (74 FR 45906) is extended through October 20, 2009. Interested persons are invited to submit written comments on the proposed rule on or before October 20, 2009.

ADDRESSES: You may submit comments, identified by Regulatory Information Number (RIN) 1205-AB55, by any one of the following methods:

• Federal e-Rulemaking Portal www.regulations.gov. Follow the Web site instructions for submitting comments.

• Mail: Please submit all written comments (including disk and CD-ROM submissions) to Thomas Dowd, Administrator, Office of Policy Development and Research, Employment and Training Administration, U.S. Department of Labor, 200 Constitution Avenue, NW., Room N-5641, Washington, DC 20210.

• Hand Delivery/Courier: Please submit all comments to Thomas Dowd, Administrator, Office of Policy Development and Research, Employment and Training Administration, U.S. Department of Labor, 200 Constitution Avenue, NW., Room N-5641, Washington, DC 20210.

Please submit your comments by only one method. The Department will post all comments received on http://www.regulations.gov without making any change to the comments, including any personal information provided. The http://www.regulations.gov Web site is the Federal e-rulemaking portal and all comments posted there are available and accessible to the public. The Department cautions commenters not to include their personal information such as Social Security Numbers, personal addresses, telephone numbers, and e-mail addresses in their comments as such submitted information will become viewable by the public via the http://www.regulations.gov Web site. It is the responsibility of the commenter to safeguard his or her information. Comments submitted through http://www.regulations.gov will not include the commenter's e-mail address unless the commenter chooses to include that information as part of his or her comment.

Postal delivery in Washington, DC, may be delayed due to security concerns. Therefore, the Department encourages the public to submit comments via the Web site indicated above.

Docket: For access to the docket to read background documents or comments received, go the Federal eRulemaking portal at http://www.regulations.gov. The Department will also make all the comments it receives available for public inspection during normal business hours at the ETA Office of Policy Development and Research at the above address. If you need assistance to review the comments, the Department will provide you with appropriate aids such as readers or print magnifiers. The Department will make copies of the rule available, upon request, in large print and as electronic file on computer disk. The Department will consider providing the proposed rule in other formats upon request. To schedule an appointment to review the comments and/or obtain the rule in an alternate format, contact the Office of Policy Development and Research at (202) 693-3700 (VOICE) (this is not a toll-free number) or 1-877-889-5627 (TTY/TDD).

FOR FURTHER INFORMATION CONTACT: For further information regarding 20 CFR part 655, contact William L. Carlson, PhD, Office of Foreign Labor Certification, Employment and Training Administration, U.S. Department of Labor, 200 Constitution Avenue, NW., Room N-5641, Washington, DC 20210; Telephone (202) 693-3010 (this is not a toll-free number). Individuals with hearing or speech impairments may access the telephone number above via TTY by calling the toll-free Federal Information Relay Service at 1-800-877-8339.

For further information regarding 29 CFR parts 501, 780 and 788, contact James Kessler, Farm Labor Branch Chief, Wage and Hour Division, Employment Standards Administration, U.S. Department of Labor, 200 Constitution Avenue, NW., Room S-3510, Washington, DC 20210; Telephone (202) 693-0070 (this is not a toll-free number). Individuals with hearing or speech impairments may access the telephone number above via TTY by calling the toll-free Federal Information Relay Service at 1-800-877-8339.

SUPPLEMENTARY INFORMATION: On September 4, 2009, the Employment and Training Administration and the Employment Standards Administration of the Department of Labor issued a Notice of Proposed Rulemaking rule to amend regulations governing the certification of temporary employment of nonimmigrant workers in temporary or seasonal agricultural (H-2A) employment and the enforcement of the contractual obligations applicable to employers of such nonimmigrant workers. 74 FR 45906, Sept. 4, 2009. The proposed rule provided a comment period through October 5, 2009. The agencies have received several requests to extend the comment period and have decided to extend the comment period to October 20, 2009. Given the complexity of the proposed rule and the level of interest, as well as The Department's interest in receiving comments, the comment period is being extended until October 20, 2009.

Signed in Washington, DC, this 29th day of September 2009.
Jane Oates,
Assistant Secretary, Employment and Training Administration.
Shelby Hallmark,
Acting Assistant Secretary, Employment Standards Administration.

[FR Doc. E9-23806 Filed 9-30-09; 11:15 am]

BILLING CODE 4510-FP-P